DEPARTMENT OF JUSTICE

Notice of Lodging of Material Modification to Consent Decree Under the Clean Air Act

Pursuant to Department of Justice policy, notice is hereby given that, on June 14, 2011, a proposed Second Material Modification to Consent Decree (“Second Decree Modification”) in United States, et al. v. Bunge North America, Inc., et al., Civil Action No. 2:06-cv-02209-MPM-DGB (C.D. Ill.) was lodged with the United States District Court for the Central District of Illinois. The original Consent Decree in this matter, entered on January 16, 2007, addressed alleged violations of the Clean Air Act, 42 U.S.C. 7401-7671q, and its implementing regulations at 12 soybean and corn processing facilities owned and operated by Bunge North America, Inc. and several affiliated entities (collectively referred to herein as “Bunge”). A First Decree Modification, entered on June 30, 2010, required Bunge to reduce air pollutant emissions at its Decatur, Indiana facility by installing new equipment to recover and re-use certain condensed waste water streams at the facility. The proposed Second Decree Modification would require Bunge to perform two substitute projects at the Decatur facility—in lieu of the waste water recovery project—that are expected to yield greater air pollutant emission reductions: (1) A project to recover waste heat from boilers' continuous blowdown; and (2) an improved turbine flash steam heat recovery system.

The Department of Justice will receive comments relating to the Second Decree Modification for a period of thirty (30) days from the date of this publication. Comments should be addressed to the Assistant Attorney General, Environment and Natural Resources Division, and mailed either electronically to pubcomment-ees.enrd@usdoj.gov or in hard copy to P.O. Box 7611, U.S. Department of Justice, Washington, DC 20044-7611. Comments should refer to United States, et al. v. Bunge North America, Inc., et al., Civil Action No. 2:06-cv-02209-MPM-DGB (C.D. Ill.) and D.J. Ref. No. 90-5-2-1-07950.

The Second Decree Modification may be examined at: (1) The offices of the United States Attorney, 201 South Vine, Suite 226, Urbana, Illinois; and (2) the offices of the U.S. Environmental Protection Agency, 77 West Jackson Boulevard, 14th Floor, Chicago, Illinois. During the public comment period, the Second Decree Modification may also be examined on the following Department of Justice Web site: http://www.usdoj.gov/enrd/Consent_Decrees.html. A copy of the Second Decree Modification may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please enclose a check in the amount of $3.25 (13 pages at 25 cents per page reproduction cost) payable to the U.S. Treasury.

Maureen M. Katz,
Assistant Chief, Environmental Enforcement Section, Environment and Natural Resources Division.

[FR Doc. 2011-15099 Filed 6-16-11; 8:45 am]

BILLING CODE 4410-15-P